DEPARTMENT OF HEALTH AND HUMAN SERVICES

Administration for Children and Families

Projects for Family Support 360 (Planning and Implementation Pilot One-Stops for Families With Members with Developmental Disabilities) and for Information and Referral Centers for Youth With Developmental Disabilities and Emerging Leaders

Program Office Name: Administration on Developmental Disabilities (ADD).

Announcement Type: Competitive Grant-Initial.

Funding Opportunity Number: HHS-2004-ACF-ADD-DN-0003.

CFDA Number: 93.631.

DATES: Applications are due August 2, 2004. Letters of Intent are due July 2, 2004.

I. Funding Opportunity Description

General Description

The Administration on Developmental Disabilities (ADD) seeks to accomplish the following with these grant awards:

• Enhance the capabilities of families in assisting individuals with developmental disabilities to achieve their maximum potential;

• Support the increasing ability of individuals with developmental disabilities to exercise greater choice and self-determination and to engage in leadership activities in their communities; and

• Ensure the protection of individuals with developmental disabilities' legal and human rights.

Through the Projects of National Significance (PNS) grant program, ADD awarded funding to 31 States/Territories for Family Support 360 planning grants to plan multi-agency partnerships to design one-stop centers to assist unserved and underserved families with a member who has a developmental disability in Fiscal Year 2003. The main purpose of the one-stop centers is to preserve, strengthen, and maintain the family unit. Each grantee was designated by the Governor as the lead agency for their State or Territory. Project partnerships were required to involve at least one elected official, the State Developmental Disabilities Council, the Protection and Advocacy System, the University Center(s) for Excellence on Developmental Disabilities in the State, and others interested in strengthen families (including faith-based organizations). The 31 planning grantees each received up to $100,000 for one year of funding.

Priority Area I of this Program Announcement provides a funding opportunity for pilot implementation grants for one-stop centers(s). The 31 States/Territories that were awarded a planning grant in Fiscal Year 2003 from ADD are eligible to apply on a competitive basis for these pilot grants. ADD intends to provide for at least 17 pilot grants this year.

Priority Area II of this Program Announcement provides a funding opportunity for States and Territories that did not receive a planning grant for Family Support 360 last year. On a competitive basis, at least 8 grants will be funded under Priority Area II.

Priority Area III of this Program Announcement provides a funding opportunity to design and demonstrate information, resource, and training centers for youth and emerging leaders with developmental disabilities. On a competitive basis, at least 8 grants will be funded under Priority Area III.

For purposes of this Program Announcement, the term “targeted families” refers to poor and/or geographically unserved or underserved families (including underserved families from racial, ethnic or cultural minority backgrounds) with a child or adult member with a developmental disability. Additionally, the term “youth” is defined as individuals with developmental disabilities between the ages of 13 and 17 while “emerging leaders” refers to individuals with developmental disabilities between the ages of 18 and 30 with the desire and interest to engage in community leadership and policymaking activities.

Background on ADD and ADD Programs

ADD is located within the Administration for Children and Families (ACF) at the Department of Health and Human Services (DHHS). ADD shares common goals with other ACF programs that promote the economic and social well-being of families, children, individuals, and communities. ACF and ADD envision:

• Families and individuals empowered to increase their own economic independence and productivity;

• Strong, healthy, supportive communities having a positive impact on the quality of life and the development of children;

• Partnerships with individuals, front-line service providers, communities, States, and Congress that enable solutions that transcend traditional agency boundaries;

• Services planned and integrated to improve access to programs and supports for individuals and families;

• A strong commitment to working with unserve and underserved persons with developmental disabilities and their families;

• A community-based approach that recognizes and expands on the resources and benefits of diversity; and

• A recognition of the power and effectiveness of public-private partnerships, including collaboration among a variety of community groups and government agencies, such as a coalition of faith-based organizations, grassroots groups, families, and public agencies to address a community need.

The goals, listed above, will enable more individuals, including people with developmental disabilities, to live productive and independent lives integrated into their communities. The Projects of National Significance (PNS) Program is one means through which ADD promotes the achievement of these goals.

ADD is the lead agency within ACF and DHHS responsible for planning and administering programs to promote the self-sufficiency and protect the rights of persons with developmental disabilities. ADD implements the Developmental Disabilities Assistance and Bill of Rights Act, the DD Act, which was reauthorized by Congress in 2000.

The DD Act of 2000 (42 U.S.C.15001, et seq.) supports and provides assistance to States, public agencies, and private nonprofit organizations to assure that individuals with developmental disabilities and their families participate in the design of and have access to culturally competent services, supports, and other assistance and opportunities that promote independence, productivity, integration, and inclusion into the community.

As defined in the DD Act, the term “developmental disabilities” means a severe, chronic disability of an individual that is attributable to a mental or physical impairment or combination of mental and physical impairments that is manifested before the individual attains age 22 and is likely to continue indefinitely. Developmental disabilities result in substantial limitations in three or more of the following functional areas; self-care, receptive and expressive language, learning, mobility, self-direction, capacity for independent living, and capacity for economic self-sufficiency. An individual from birth to age 9 who has a substantial developmental delay or specific congenital or acquired condition, may be considered to have a developmental disability without meeting 3 or more of the criteria if the individual, without services and supports, has a high probability of meeting those criteria later in life.

A number of significant findings are identified in the DD Act, including:

• Disability is a natural part of the human experience that does not diminish the right of individuals with developmental disabilities to enjoy the opportunity for independence, productivity, integration, and inclusion into the community;

• Individuals whose disabilities occur during their developmental period frequently have severe disabilities that are likely to continue indefinitely; and

• Individuals with developmental disabilities often require lifelong specialized services and assistance, provided in a coordinated and culturally competent manner by many agencies, professionals, advocates, community representatives, and others to eliminate barriers and to meet the needs of such individuals and their families.

The DD Act also promotes the policies presented below:

• Individuals with developmental disabilities, including those with the most severe developmental disabilities, are capable of achieving independence, productivity, integration, and inclusion into the community, and often require the provision of services, supports, and other assistance to achieve such;

• Individuals with developmental disabilities have competencies, capabilities, and personal goals that should be recognized, supported, and encouraged, and any assistance to such individuals should be provided in an individualized manner, consistent with the unique strengths, resources, priorities, concerns, abilities, and capabilities of the individual; and

• Individuals with developmental disabilities and their families are the primary decision makers regarding the services and supports such individuals and their families receive, and play decision making roles in policies and programs that affect the lives of such individuals and their families.

Other General Information:

Anticipated Total Funding: $7,250,000.

Anticipated Number of Awards: 40.

Ceiling on Amount of Individual Awards: Individual priority areas vary from $100,000 to $250,000.

Floor on Amount of Individual Awards: None.

Average Projected Award Amount: Individual priority areas range from $100,000 to $250,000.

Project Periods for Awards: Three year project periods with twelve month budget periods.

Priority Area I: Family Support 360 Pilot Implementation Grants

Priority Area I Background Information

Purpose: To implement the State's Family Support 360 plan for one-stop center(s) to assist the targeted families to preserve, strengthen, and maintain the family unit.

In Fiscal Year 2003, ADD awarded funding to 31 Family Support 360 planning grants to plan multi-agency partnerships to design one-stop centers to assist unserved and underserved families with a member who has developmental disabilities. The main purpose of the one-stop centers is to preserve, strengthen, and maintain the family unit. Each grantee was designated by the Governor as the lead agency for their State or Territory for the planning grant. Project partnerships were required to involve at least one elected official, the State Developmental Disabilities Council, the Protection and Advocacy System, the University Center(s) for Excellence on Developmental Disabilities in the State, and others interested in strengthening families (including faith-based organizations). This Priority Area provides the 31 States who received a Family Support 360 planning grant last year with the opportunity to compete for a Family Support 360 Pilot Implementation Grant this Fiscal Year.

The Centers for Medicare & Medicaid Services (CMS), in partnership with the Administration on Aging (AoA), funded 12 State grants to develop Aging and Disability Resource Center programs to help consumers make informed decisions about their long-term care service and support options and to serve as the entry point to the long-term service and support system in FY 2003. Aging and Disability Resource Centers will serve the elderly and at least one other target population of individuals with disabilities. Additional States may be funded in FY 2004 pending the availability of funding. To learn more about the Resource Center grant program and the 12 grantees visit http://www.adrc-tae.org. Applicants to the ADD's Family Support 360 program are encouraged to collaborate with Aging and Disability Resource Center program efforts in those States where they exist.

Note to Applicants: If multiple years of funding are being requested for the proposed project, the application must identify project objectives for each year.

Priority Area I Minimum Requirements for Project Design

• General Parameters for Services and Supports to Targeted Families: Implementation plans for the one-stop center must address the following parameters: Information and referrals, as well as in-depth planning for services and supports with at least 50 families on an annual basis. The families projected to be served would have access to individualized family-centered assessment and planning for services and supports. Individualized planning may focus on one or more of the following areas of need: healthcare and mental health services, eligibility for personal assistance and supports (e.g., access to direct care workers, respite care, food stamps, and cash assistance), accessible transportation, childcare services, family strengthening services (e.g., parenting education and marriage education), early intervention, education, housing, and employment-related assistance. The individualized planning and assessment through the one-stop must involve at least three services in the first year of the grant, with three additional services being made available each year in year 2 and year 3 of the grant. The selection of services to be offered in any year should be those that the eligible targeted families will most likely need throughout the grant year.

• Specific Requirements for the Implementation Plan: Building upon the activities and outcomes of the State's Family Support 360 planning grant, each applicant must submit a plan for implementing at least one one-stop center to assist targeted families to preserve and strengthen the family unit. The implementation plan must address serving at least 50 unserved and/or underserved families in the community each year for the three years of the grant. At a minimum, the implementation plan contained in the State's application package must include the following information:

1. A meaningful role for targeted families in implementing the one-stop center(s);

2. An analysis of existing State and Federal laws, programs, and resources impacting the lives of the targeted families;

3. The criteria and process for selecting the targeted families to be served by the one-stop center(s);

4. The criteria to be used to establish if a family has achieved the outcomes in its family-centered plan;

5. A description of the operations and procedures relating to the following

a. Outreach to and recruitment of targeted families;

b. Information and referral to targeted families, community organizations assisting families in need (including those involved in family strengthening), and others;

c. Intake, assessment, and determination of eligibility of families;

d. Development and monitoring of Individualized Family Plans (the process for developing and implementing the plans, including who will be involved in the plan development and who will monitor progress, and the types of intervention to be pursued when a targeted family experiences problems related to its plan);

e. Records maintenance (access to and retrieval of files, and protection of the confidentiality of the families' personal information); and

f. Financing of services (a description of how funding for the services and supports in a family's plan could be secured);

g. Copies of memorandums of understanding (MOUs) or other mechanisms reflecting commitments with one-stop partners.

6. The staffing patterns and staff requirements, including training plans for staff members and an outline of a recruitment and hiring plan for securing key personnel who have substantial experience living with a developmental disability or who have direct substantial experience living with or assisting individuals with developmental disabilities;

7. An assurance of compliance with the Americans with Disabilities Act, where applicable, and Section 504 of the Rehabilitation Act of 1973 as amended by the Rehabilitation Act Amendments of 1998;

8. The roles and responsibilities of the participating agencies, partners, and organizations, including at least one elected official, the State Developmental Disabilities Council, the State Protection and Advocacy System, and the University Center(s) on Developmental Disabilities in the State/Territory, as well as others interested in family strengthening activities.

9. An organizational chart for the one-stop center(s);

10. Space and equipment requirements, including communication and information technology, for the one-stop center(s);

11. A timetable for completing the activities for implementing the State's plan for the one-stop center(s);

12. Budget requirements for the one-stop center(s);

13. A mechanism for disseminating the outcomes of the one-stop center(s);

14. A plan of action for sustaining the activities of the one-stop center(s) after the closure of the implementation grant from ADD. And

• Project Meeting: Each applicant's proposed project budget must include estimated travel expenses (airfare, ground transportation, lodging, etc.) for at least one key project staff member to attend a three day meeting in Washington, DC with Federal staff on project issues and/or for training and technical assistance.

II. Award Information

Funding Instrument Type: Grant.

Anticipated Total Priority Area Funding: $5,250,000.

Anticipated Number of Awards: 17 to 20 Grant Awards per budget period.

Ceiling on Amount of Individual Annual Awards: $250,000 per budget period.

Floor of Individual Award Amounts: None.

Average Projected Award Amount: $250,000 per budget period.

Project Periods for Awards: This priority area is inviting applications for project periods up to three years. Awards, however, will be made on a competitive basis, for a one-year budget period. Applications for continuation grants funded under these awards beyond the one-year budget period but within the three year project period will be entertained in subsequent years on a noncompetitive basis, subject to availability of funds, satisfactory progress of the grantee and a determination that continued funding would be in the best interest of the Government.

III. Eligibility Information

1. Eligible Applicants

Other: Entities designated by the Governor of the State or Territory that received a Family Support 360 planning grant from ADD in Fiscal Year 2003.

Additional Information on Eligibility:

• The application must include a letter from the Governor designating the lead agency for the Family Support 360 Pilot Implementation Grant.

• If the designated lead agency is not to be a State or local public human services agency, the Governor must, in a letter to the Commissioner of ADD, also identify a State or local human service agency that will be the lead partner with the private lead agency which is being designated by the Governor.

• The Governor's letter must accompany the application at the time of submission for funding consideration. Applications that do not include this letter will not be reviewed and ranked for funding consideration.

• Non-profit organizations that received a Family Support 360 planning from ADD in Fiscal Year 2003 must demonstrate proof of non-profit status. Proof of non-profit status is any one of the following:

a. A reference to the applicant organization's listing in the Internal Revenue Service's (IRS) most recent list of tax-exempt organizations described in the IRS code;

b. A copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

Applicants are cautioned that the ceiling for individual awards is $250,000. An application exceeding the $250,000 threshold will be considered non-responsive and returned without review.

2. Cost Sharing or Matching

Grantees must match $1 for every $3 requested in Federal funding to reach 25 percent of the total approved cost of the project. The total approved cost of the project is the sum of the ACF/ADD share and the non-Federal share. The non-Federal share may be met by cash or in-kind contributions, although applicants are encouraged to meet their match requirements through cash contributions. Therefore, a project requesting $100,000 in Federal funds must provide a match of at least $33,333 (the total project cost is $133,333 of which $33,333 is 25%).

Applications that fail to include the required amount of cost-share will be considered non-responsive and returned without review.

3. Other (If Applicable)

On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applicants are cautioned that the ceiling for individual awards is $250,000. Applications exceeding the $250,000 threshold will be considered non-responsive and will not be eligible for funding under this announcement.

Applications that fail to include the required amount of cost-share will be considered non-responsive and returned without review.

IV. Application and Submission Information

1. Address To Request an Application Package

Valerie Reese, Program Specialist, U.S. Department of Health and Human Services, Administration for Children and Families, Administration on Developmental Disabilities, 370 L'Enfant Promenade, SW., Washington, DC 20447.E-mail: vreese@acf.hhs.gov, phone: (202) 690-5805, TTY/TDD: (202) 690-6415, fax: (202) 205-8037.

2. Content and Form of Application Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.Gov:

• Electronic submission is voluntary.

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this Program Announcement and meet the application deadline.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Electronic Address where applications will be accepted: http://www.Grants.gov.

• Project Description: The Project Description is a very important part of an application. It should be clear, concise, and address the specific requirements mentioned under the Priority Area. The narrative should also provide information concerning how the application meets the evaluation criteria, using the following headings:

(a) Objectives and Need for Assistance;

(b) Results and Benefits Expected;

(c) Approach;

(d) Organization Profile; and

(e) Budget and Budget Justification.

• Application Package: Each application package must include an original and two copies of the complete application. Each copy should be stapled securely (front and back, if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

The narrative should be typed double-spaced on a single-side of an 8½″ x 11″ plain white paper, with 1″ margins on all sides, using black print no smaller than 12 pitch or 12 point size. All pages of the narrative, including attachments (such as charts, references/footnotes, tables, maps, exhibits, etc.) and letters of support must be sequentially numbered, beginning with “Objectives and Need for Assistance” as page number one. Applicants should not submit reproductions of larger size paper, reduced to meet the size requirement.

The length of the application, including all attachments and required Federal forms, must not exceed 60 pages. The federally required forms will be counted towards the total number of pages. The 60-page limit will be strictly enforced. All pages beyond the first 60 pages of text will be removed prior to applications being evaluated by the reviewers. A page is a single side of an 8½ x 11″ sheet of paper with 1″ margins.

Applicants are requested not to send pamphlets, brochures or other printed material along with their application as these pose copying difficulties. These materials, if submitted, will not be included in the review process if they exceed the 60-page limit. Each page of the application will be counted to determine the total length.

• Assurances/Certifications: Applicants are required to submit a SF 424B, Assurances—Non-Construction Programs and the Certification Regarding Lobbying. Applicants must provide a certification concerning lobbying. Prior to receiving an award in excess of $100,000, applicants should furnish an executed copy of the lobbying certification (approved by the Office of Management and Budget under control number 0348-0046). Applicants must sign and return the certification with their application.

Applicant must also understand that they will be held accountable for the smoking prohibition included within Pub. L. 103-227, Part C Environmental Tobacco Smoke (also known as the Pro-Children's Act of 1994). By signing and submitting the application, applicants are providing the certification and need not mail back the certification with the application.

In addition, applicants are required under section 162(c)(3) of the Act to provide assurances that the human rights of all individuals with developmental disabilities (especially those individuals without familial protection) who will receive services under projects assisted under part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

Non-profit applicants must demonstrate proof of their non-profit status and this proof must be included in their application. Proof of non-profit status is any one of the following:

a. A reference to the applicant organization's listing in the Internal Revenue Service's (IRS) most recent list of tax-exempt organizations described in the IRS code;

b. A copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

3. Submission Dates and Times

If you intend to submit an application, please send us a fax or e-mail with the number and title of this Program Announcement, your organization's name and address, your contact person's name, your contact's phone and fax numbers, and their e-mail address. While Letters of Intent are not a requirement for funding consideration, this information will be used to determine the number of experts needed to review applications and to update the mailing list for future Program Announcements from ADD.

Letters of Intent are due July 2, 2004, at the following address: U.S. Department of Health and Human Services, Administration for Children and Families, Administration on Developmental Disabilities, 370 L'Enfant Promenade, SW., Washington, DC 20447. Attention: April Myers. Phone: (202) 690-5985, TTY/TDD: (202) 690-6415, e-mail: amyers@acf.hhs.gov, fax: (202) 205-8037.

The closing time and date for receipt of applications is 4:30 p.m. (eastern time zone) on August 2, 2004. Mailed or hand carried applications received after 4:30 p.m. on the closing date will be classified as late.

Deadline: Mailed applications shall be considered as meeting an announced deadline if they are received on or before the deadline time and date at the following address: U.S. Department of Health and Human Services, Administration for Children and Families, Office of Grants Management, 370 L'Enfant Promenade, SW., 8th Floor, Washington, DC 20447. Attention: Lois Hodge.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., e.s.t., at the following address: U.S. Department of Health and Human Services, Administration for Children and Families, Office of Grants Management, 370 L'Enfant Promenade, SW., 8th Floor, Washington, DC 20447. Attention: Lois Hodge.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
Notice of Intent to Submit | Applicant's name and contact information | Fax (202) 205-8037 or e-mail (amyers@acf.hhs.gov) | July 2, 2004.
Governor's letter of designation for Applicants under Priority Areas I and II | Designate the applicant as the lead applicant for the State/Territory by name | Letter with the Governor's signature, addressed to Commissioner Patricia A. Morrissey, Ph.D. | August 2, 2004.
SF424, SF424a, SF424B | Per required form | May be found at http://www.acf.hhs.gov/program/ofs/forms.htm | August 2, 2004.
Project Summary/Abstract | Summary of application request | One page limit | August 2, 2004.
Project Description | Responsiveness to evaluation criteria | Format described in Review and Selection section. Limit 60 pages. Size 12 font, ½″ margins. | August 2, 2004.
Certification Regarding Lobbying | Per required form | May be found at http://www.acf.hhs.gov/program/ofs/forms.htm | August 2, 2004.
Disclosure of Lobbying Activities (SF-LLL) | Per required form | May be found at http://www.acf.hhs.gov/program/ofs/forms.htm | August 2, 2004.
Environmental Tobacco Smoke Certification | Per required form | May be found at http://www.acf.hhs.gov/program/ofs/forms.htm | August 2, 2004.

Additional Forms: Private-non-profit organizations are encouraged to submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC), Notification Under Executive Order 12372

This program is covered under Executive Order (E.O.) 12372, “Intergovernmental Review of Federal Programs”, and 45 CFR part 100, “Intergovernmental Review of Department of Health and Human Services Programs and Activities”. Under the Order, States may design their own processes for reviewing and commenting on proposed Federal assistance under covered programs

As of January 2003, of the most recent SPOC list, the following jurisdictions have elected not to participate in the Executive Order process: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington.

Applicants from these jurisdictions or for projects administered by federally-recognized Indian Tribes need take no action in regard to E.O. 12372.

Although the jurisdictions listed above no longer participate in the process, entities which have met the eligibility requirements of the program are still eligible to apply for a grant even if a State, Territory, Commonwealth, etc. does not have a SPOC.

All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, SW., Mail Stop 6C-462, Washington, DC 20447.

The official list, including addresses, of the jurisdictions elected to participate in E.O. 12372 can be found at: http://www.whitehouse.gov/omb/grants/spoc.html.

5. Funding Restrictions

This grant is limited to Entities designated by the Governor of the State or Territory that received a Family Support 360 planning grant from ADD in Fiscal Year 2003.

Non-Allowable Costs: Reimbursement of pre-award costs, costs for foreign travel, or costs for construction activities are not allowable charges to this Federal grant program.

Indirect Costs: In order to charge Indirect Costs to the Federal Funds and/or use Indirect Costs as a matching share, the applicant must have an approved indirect costs agreement for the period in which the Federal funds would be awarded.

6. Other Submission Requirements

Submission by Mail: An Applicant must provide an original application with all attachments, signed by an authorized representative and two copies. ACF will not be sending applicants notifications that their applications were received under this Program Announcement. The Application must be received at the address below by 4:30 p.m. eastern standard time on or before the closing date. Applications should be mailed to: The U.S. Department of Health and Human Services, ACF Office of Grants Management, 370 L'Enfant Promenade, SW., 8th Floor, Washington, DC 20447. Attention: Lois Hodge.

Hand Delivery: An Applicant must provide an original application with all attachments signed by an authorized representative and two copies. The application must be received at the address below by 4:30 p.m. eastern standard time on or before the closing date. Applications that are hand delivered will be accepted between the hours of 8 a.m. to 4:30 p.m., Monday through Friday. Applications may be delivered to: The U.S. Department of Health and Human Services, ACF Office of Grants Management, 370 L'Enfant Promenade, SW., 8th Floor, Washington, DC 20447. Attention: Lois Hodge.

Electronic Submission: Please see section IV.2 Content and Form of Application Submission, for guidelines and requirements when submitting applications electronically.

V. Application Review Information

The Paperwork Reduction Act of 1995 (Pub. L. 104-13)

Public reporting burden for this collection of information is estimated to average 40 hours per response, including the time for reviewing instructions, gathering and maintaining the data needed, and reviewing the collection information. The project description is approved under OMB Control Number 0970-0139 which expires 4/30/2007. An agency may not conduct or sponsor, and a person is not required to respond to, a collection of information unless it displays a currently valid OMB control number.

General Project Description: Applicants are required to submit a full project description and must prepare the project description statement in accordance with the following instructions.

1. Project summary/abstract: Provide a summary of the project description (a page or less) with reference to the funding request.

2. Objectives and Need for Assistance: Clearly identify the physical, economic, social, financial, institutional and/or other problem(s) requiring a solution. The need for assistance must be demonstrated and the principal and subordinate objectives of the project must be clearly stated; supporting documentation, such as letters of support and testimonies from concerned interests other than the applicant, may be included. Any relevant data based on planning studies should be included or referred to in the endnotes/footnotes. Incorporate demographic data and participant/beneficiary information, as needed. In developing the project description, the applicant may volunteer or be requested to provide information on the total range of projects currently being conducted and supported (or to be initiated) some of which may be outside the scope of the Program Announcement.

3. Results or Benefits Expected: Identify the results and benefits to be derived. For example, when applying for a grant to establish a neighborhood child care center, describe who will occupy the facility, who will use the facility, how the facility will be used, and how the facility will benefit the community which it will serve.

4. Approach: Outline a plan of action that describes the scope and detail of how the proposed work will be accomplished. Account for all functions or activities identified in the application. Cite factors, which might accelerate or decelerate the work, and state your reason for taking the proposed approach rather than others. Describe any unusual features of the project such as design or technological innovations, reductions in cost or time, or extraordinary social and community involvement. Provide quantitative monthly or quarterly projections of the accomplishments to be achieved for each function or activity in such terms as the number of people to be served and the number of microloans made. Where activity or function cannot quantify accomplishments, list them in chronological order to show the schedule of accomplishments and their target dates. Identify the kinds of data to be collected, maintained, and/or disseminated. Note that clearance from the U.S. Office of Management and Budget might be needed prior to a “collection of information” that is “conducted or sponsored” by ACF.

5. Organization Profile: Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. List organizations, cooperating entities, consultants, or other key individuals whom will work on the project along with a short description of the nature of their effort or contribution.

Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

6. Budget and Budget Justification: Provides line item detail and detailed calculations for each budget object class identified on the Budget Information form. Detailed calculations must include estimation methods, quantities, unit costs, and other similar quantitative detail; sufficient for the calculation to be duplicated. The detailed budget must include a breakout by the funding sources identified in Block 15 of the SF-424. Provide a narrative budget justification that describes how the categorical costs are derived. Discuss the necessity, reasonableness, and allocability of the proposed cost.

Applicants have the option of omitting the Social Security Numbers and specific salary rates of the proposed project personnel from the two copies submitted with the original application to ACF. For purposes of the outside review process, applicants may elect to summarize salary information on the copies of their application. All salary information must, however, appear on the signed original application to ACF.

1. Evaluation Criteria

Five specific criteria will be used to review and evaluate each application. Each criterion should be addressed in the project description section of the application. The point values indicate the maximum numerical weight possible for each criterion in the review process.

Criterion 1: Approach (35 points)

The applicant must outline a sound, workable, and detailed plan of action, pertaining to the goals and objectives of the proposed project. Activities should be identified in chronological order, with target dates for accomplishment and the key personnel responsible for completing the activity. The plan of action should also clearly identify and delineate the roles and involvement of each of the proposed project's partners, collaborators, and/or sub-grantees.

The plan of action should involve the following types of information; (a) how the work will be accomplished; (b) factors that might accelerate or decelerate the work; (c) reasons for taking this approach as opposed to other possibilities; and (d) descriptions of innovations and/or unusual features (such as technological or design innovations, reductions in cost and/or time, or extraordinary community involvement). Additionally, the applicant must provide a discussion of how the expected results and benefits will be evaluated for the proposed project. This discussion should explain the methodology that will be used to determine if the needs identified and discussed in the application are being met and if the results and benefits identified are being achieved.

Using the following values for each required item in this Criterion, points will be awarded according to the extent to which the applicant:

15 Points Outlines a sound, workable, and detailed plan of action, pertaining to the goals and objectives of the proposed project.

8 Points Discusses and explains the methodology to be used in determining if identified needs are being met and expected results are being achieved.

4 Points Cites factors that might accelerate or decelerate the work.

4 Points Provides a rationale for taking this approach as opposed to other possibilities.

4 Points Describes innovations and/or unusual features of the proposed project.

Criterion 2: Objectives and Need for Assistance (20 Points)

The application must identify the following information: (a) The need for assistance, (b) the objectives of the proposed project, (c) the precise location of the proposed project, and (d) the area to be served by the proposed project.

The applicant may accomplish this best by: (a) Pinpointing the relevant physical, economic, social, financial, institutional, or other problems requiring a solution; (b) demonstrating the need for the assistance; (c) stating the principal and subordinate objectives for the proposed project; (d) providing supporting documentation and/or other testimonies from concerned individuals and groups other than the applicant; (e) providing relevant data based on research or planning studies, and (f) including maps and other graphic aids.

Using the following values for each required item in this Criterion, points will be awarded according to the extent to which the applicant:

5 Points Identifies and demonstrates the need for assistance.

5 Points States the principal and subordinate objectives for the proposed project.

4 Points Provides relevant data based on research and/or planning studies.

4 Points Provides supporting documentation and/or testimonies from concerned individuals and groups, other than the applicant.

2 Points Includes maps and other graphics identifying the precise location of the proposed project.

Criterion 3: Organization Profile (20 Points)

The application identifies the background of the project director/principal investigator and key project staff (including name, address, training, educational background and other qualifying experience) and the experience of the organization to demonstrate the applicant's ability to effectively and efficiently administer this project. The applicant must describe the relationship between this project and other work that is planned, anticipated, or currently underway by the applicant.

This section should consist of a brief (two to three pages) background description of how the applicant organization (or the unit within the organization that will have responsibility for the project) is structured, the types and quantity of services it provides, and/or the research and management capabilities it possesses. It may include a description of any current or previous relevant experience; or it may describe the competence of the project team and its demonstrated ability to produce final products that are readily comprehensible and usable. An organization chart showing the relationship of the project to the current organization must be included.

Using the following values for each required item in this Criterion, points will be awarded according to the extent to which the applicant:

6 Points Identifies the background of key staff members.

6 Points Demonstrates the organization's ability to administer the proposed project.

6 Points Describes and discusses the role and involvement of individuals with developmental disabilities and their families in the proposed project and organization.

2 Points Includes an organizational chart, depicting the relationship of the project to the current organization.

Criterion 4: Results or Benefits Expected (17 Points)

The expected results and benefits of the proposed project should be consistent with the objectives of the application. The application must state the project's anticipated contributions to policy, practice, theory, and/or research. The proposed project costs should be reasonable in view of the expected results.

Using the following values for each required item in this Criterion, points will be awarded according to the extent to which the applicant:

10 Points States the anticipated contributions of the proposed project to policy, practice, theory, and/or research.

7 Points Expected results and benefits are consistent with the proposed project's goals and objectives.

Criterion 5: Budget and Budget Justification (8 Points)

Applicants are expected to present a budget with reasonable project costs, appropriately allocated across component areas, and sufficient to accomplish the objectives. The requested funds for the project must be fully justified and documented.

Applications must provide a narrative budget justification that describes how the categorical costs are derived and discusses the reasonableness and appropriateness of the proposed costs. Line item allocations and justification are required for both Federal and non-Federal funds. A letter of commitment for the project's non-Federal resources must be submitted with the application in order to be given credit in the review process. A fully explained non-Federal share budget must be prepared for each funding source.

Applicants have the option of omitting the Social Security Numbers and specific salary rates of the proposed project personnel from the two copies submitted with the original application to ACF. For purposes of the outside review process, applicants may elect to summarize salary information on the copies of their application. All salary information must, however, appear on the signed original application for ACF.

Using the following values for each required item in this Criterion, points will be awarded according to the extent to which the applicant:

3 Points Discusses and justifies the costs and reasonableness of the proposed project in view of the expected results and benefits.

3 Points Describes the fiscal controls and accounting procedures to be used.

2 Points Includes a fully explained non-Federal share budget and its source(s).

Additional Points

This year, five additional points will be added to the applicant's total in the scoring process for any project that includes partnership and collaboration with one or more of the 140 Empowerment Zones/Enterprise Communities. To receive the additional five points, the applicant must provide a clear outline for the collaboration and a discussion of how the involvement of the EZ/EC is related to the objectives and the activities of the project. Also, a letter from the appropriate representatives of the EZ/EC must accompany the application indicating its agreement to participate and describing its role in the project. For further information on Empowerment Zones and Enterprise Communities, please visit the ACF Office of Community Service's Web site at http://www.acf.hhs.gov/programs/ocs/ez-ec.

2. Review and Selection Process

Applications under this Program Announcement from eligible applicants received by the deadline date will be competitively reviewed and scored. Experts in the field, generally persons from outside the Federal Government, will use the evaluation criteria listed later in the evaluation section of the Program Announcement to review and score the applications. The results of this review are a primary factor in making funding decisions.

ADD reserves the option of discussing applications with, or referring them to, other Federal or non-Federal funding sources when this is determined to be in the best interest of the Federal Government and/or the applicant. ADD may also solicit comments from ACF Regional Office staff, other Federal agencies, interested foundations, national organizations, specialists, experts, States, and the general public. ADD will consider these comments, along with those of the expert reviewers, in making funding decisions.

In making PNS decisions for 2004 grant awards, ADD will consider whether applications focus on or feature the following aspects/activities in their project design to the extent appropriate:

• A substantially innovative strategy with the potential to improve theory or practice in the field of human services;

• A model practice or set of procedures that holds the potential for replication by organizations administering or delivering human services;

• A substantial involvement of volunteers, the private sector (either financial or programmatic), faith-based and community organizations, and/or national or community foundations;

• A favorable balance between Federal and non-Federal funds available for the proposed project, which is likely to result in the potential for high benefit for low Federal investment; and

• A programmatic focus on those most in need of services and assistance, such as unserved and underserved populations, including underserved cultural, ethnic, and racial minority populations.

To the greatest extent possible, efforts will be made to ensure that funding decisions reflect an equitable distribution of assistance among the States and geographical regions of the country, and rural and urban areas. In making these decisions, ADD may also take into account the need to avoid unnecessary duplication of effort.

Using the evaluation criteria described in the section below, a panel of at least three reviewers (primarily experts from outside the Federal government) will evaluate and score the applications. Reviewers will determine the strengths and weaknesses of each application in terms of the evaluation criteria listed below, provide comments, and assign numerical scores. The point value following each criterion indicates the maximum numerical weight that each applicant may receive per section in the review process. To facilitate this review, applicants should ensure that they address the minimum requirements identified in the Priority Area description under the appropriate section of the Program Narrative Statement.

Priority Area II: Family Support 360 Planning Grants for One-Stop Center(s)

1. Priority Area II Description

Priority Area II Background Information

Purpose: To plan multi-agency partnerships to design at least one one-stop center to assist targeted families (poor and/or geographically unserved or underserved families with a child or adult member with a developmental disability) to preserve, strengthen, and maintain the family unit.

In order to preserve, strengthen, and maintain the family unit, targeted families often need services and supports from a myriad of public and private providers, each with its own eligibility determination criteria and planning process. There are few States and communities with a comprehensive infrastructure to offer families a seamless, one-point of entry (i.e., one-stop center) to establish eligibility and develop a family-centered plan to preserve and strengthen families. As a result, it is imperative for ADD to support planning initiatives that will allow a variety of partners, including faith-based and community organizations, to discuss and develop consensus on how their collective resources could be used in a more family friendly manner. Successful States under this Priority Area will receive planning grants to explore with their partners how to develop a common language, pool resources, coordinate services, and share expenses in order to reduce overhead and create a setting (i.e., one-stop center) in which outcome-oriented, family-centered, collaborative planning could occur.

The Centers for Medicare & Medicaid Services (CMS), in partnership with the Administration on Aging (AoA), funded 12 State grants to develop Aging and Disability Resource Center programs to help consumers make informed decisions about their long-term care service and support options and to serve as the entry point to the long-term service and support system in FY 2003. Aging and Disability Resource Centers will serve the elderly and at least one other target population of individuals with disabilities. Additional States may be funded in FY 2004 pending the availability of funding. To learn more about the Resource Center grant program and the 12 grantees visit http://www.adrc-tae.org. Applicants to the ADD's Family Support 360 program are encouraged to collaborate with Aging and Disability Resource Center program efforts in those States where they exist.

Priority Area II Minimum Requirements for Project Design

• Involvement and Input from Targeted Families. The meaningful involvement of individuals who are members of targeted families must be an essential and measurable element of all project planning and activities.

• Project Partnerships. Project activities must be conducted in partnership with at least one elected official, the State Developmental Disabilities Council, the State Protection and Advocacy System, and the University Center(s) on Developmental Disabilities in the State/Territory, as well as others (including, but not limited to, disability-related service providers, advocacy groups, family support groups, family strengthening groups, and faith-based organizations).

• Building Consensus for an Implementation Plan. Projects should build a consensus for an implementation plan with their partners to establish and sustain a one-stop center for the targeted families. Implementation plans should include Federal, State, and local inter-agency collaboration, and public-private partnerships to achieve service integration for targeted families.

• Parameters for Services and Supports in the Implementation Plan. Implementation plans for the one-stop center must address the following parameters; information and referrals, as well as in-depth planning for services and supports with at least 50 families on an annual basis. The families projected to be served would have access to individualized family-centered planning for services and supports. Individualized planning may focus on one or more of the following areas of need: Healthcare and mental health services, eligibility for personal assistance and supports (e.g., access to direct care workers, respite care, food stamps, and cash assistance), accessible transportation, childcare services, and family strengthening services (e.g., parenting education and marriage education), early intervention, education, housing, and employment-related assistance.

• Assessment of the Capacity and Capability of Information Technology. A needs assessment for and/or design of an information system with a single point of entry for the one-stop center should be included in the applicant's project. This activity may involve identifying and testing existing software and hardware to support the computer and informational needs of the one-stop center or designing new technology.

• Analysis of Eligibility. A review of existing State and Federal laws that impact the targeted families must be a key element of each project. At a minimum, a legal analysis should provide a detailed summary of the following issues:

(1) Funding streams for services and supports to families with members who have developmental disabilities;

(2) The legal and policy barriers for targeted families to achieving self-sufficiency; and

(3) Eligibility criteria and other program requirements that may pose obstacles to serving targeted families.

• Training Needs. Each grantee should identify the training needs of staff members who would work with targeted families, and may include educational and training issues for non-staff assisting the targeted families in other settings and environments.

• Existing Resources. Each grantee should identify existing State and local resources for targeted families, including information on services and supports that are available from community groups and faith-based organizations, including those that provide family strengthening services. This information would form the initial database for the one-stop center, leading to a catalog of services and supports for the staff members and targeted families.

• Development of Policies and Memoranda of Understanding (MOUs). Each grantee should develop MOUs, policy statements, and procedures between State and local partners on key issues for implementing the one-stop center. Some of the key issues to be agreed upon in this planning process among the partners should include the mission of the one-stop center, the eligible families for services, the roles of agencies' staff members, and the lead agency responsibilities.

• Key Personnel. Each grantee should outline a plan for recruitment and securing key personnel who have substantial experience living with a developmental disability or who have direct substantial experience living with or assisting individuals with developmental disabilities;

• Civil Rights. Each grantee must comply with the Americans with Disabilities Act, where applicable, and section 504 of the Rehabilitation Act of 1973 as amended by the Rehabilitation Act Amendments of 1998.

• Communication and Dissemination. Each grantee should have the capacity to communicate and disseminate information with their project partners and others through e-mail and other effective, affordable, and accessible forms of electronic communication.

• Final Product. The final product of this planning grant must be a written plan for implementing at least one one-stop center to assist targeted families to preserve and strengthen the family unit. The implementation plan must include, at a minimum, the following information for 50 targeted families annually:

1. Criteria and process for selecting targeted families to be served by the one-stop center. For example, families could be required to have eligibility for Medicaid, be among the geographically unserved or underserved in the State, or be eligible for TANF.

2. Criteria to be used to establish that a family has achieved the outcomes in its family-centered plan;

3. Description of operations and procedures relating to the following;

f. Outreach to and recruitment of targeted families;

g. Information and referral to targeted families, community organizations assisting families in need (including those involved in family strengthening), and others;

h. Intake, assessment, and determination of eligibility of families;

i. Development and monitoring of Individualized Family Plans (the process for developing and implementing the plans, including who will be involved in the plan development and who will monitor progress);

j. Records maintenance (access to and retrieval of files, and the confidentiality of the families' personal information); and

k. Financing of services (a description of how funding for the services and supports in a family's plan could be secured);

4. Staffing patterns and staff requirements;

5. Roles of the participating agencies and organizations;

6. Organizational chart for the one-stop center;

7. Space and equipment requirements;

8. Timetable for implementing this plan for the one-stop center; and

9. Budget requirements for the one-stop center. And

• Project Meeting: Each applicant's proposed project budget must include estimated travel expenses (airfare, ground transportations, lodging, etc.) for at least one key project staff member to attend a three day meeting in Washington, DC to meet with Federal staff on project issues and/or for training and technical assistance.

II. Priority Area II Award Information

Funding Instrument Type: Competitive Grant-Initial.

Anticipated Total Priority Area Funding: $1,000,000.

Anticipated Number of Awards: 8 to 10 grant awards per project and budget period.

Ceiling on Amount of Individual Annual Awards: $100,000 per project and budget period.

Floor of Individual Award Amounts: None.

Average Projected Award Amount: $100,000 per project and budget period.

Length of Project: One year project period and twelve month budget period.

III. Priority Area II Eligibility Information

1. Eligible Applicants

State Governments, County Governments, City or Township Governments, State Controlled Institutions of Higher Education, Native American Tribal Governments (Federally Recognized), Public Housing Authorities/Indian Housing Authorities, non-profits having 501(c)(3) status with the IRS, other than institutions of higher education, non-profits that do not have 501(c)(3) status with the IRS, other than institutions of higher education, and private institutions of higher learning.

Additional Information on Eligibility:

• Entities from States/Territories that were awarded a Family Support 360 planning grant from ADD in Fiscal Year 2003 are not eligible to apply for this priority area.

• A letter from the Office of the Governor designating the applicant as the lead agency for the State/Territory must accompany the application. If the Governor's letter does not accompany the application, it will not be reviewed and ranked for funding consideration.

• The designated lead agency may be a State or local agency, tribal government, public or private nonprofit organization (including a faith-based organization), or an institution of higher learning. If the designated lead agency for the planning grant is not a State or local public human services agency, the Governor will need to identify a State or local human services agency to partner with the private lead agency designated by the Governor to be eligible for the implementation funding.

• Depending upon the availability of funds, successful applicants for planning grants may be eligible to apply for implementation funds in future fiscal years.

• Non-profit organizations must demonstrate proof of non-profit status. Proof of non-profit status is any one of the following:

(a) A reference to the applicant organization's listing in the Internal Revenue Service's (IRS) most recent list of tax-exempt organizations described in the IRS code

(b) copy of a currently valid IRS tax exemption certificate

(c) A statement from a State taxing body, State Attorney General, or other appropriate State official certifying that the applicant organization has a non-profit status and that none of the net earnings accrue to any private shareholders or individuals

(d) A certified copy of the organization's certificate of incorporation or similar document that clearly establishes non-profit status; or

(e) Any of the items in the subparagraphs immediately above for a State or national parent and a statement signed by the parent organization that the applicant organization is a local non-profit affiliate.

Applicants are cautioned that the ceiling for individual awards is $100,000. An application exceeding the $100,000 threshold will be considered non-responsive and returned without review.

2. Cost Sharing or Matching

Grantees must match $1 for every $3 requested in Federal funding to reach 25 percent of the total approved cost of the project. The total approved cost of the project is the sum of the ACF/ADD share and the non-Federal share. The non-Federal share may be met by cash or in-kind contributions, although applicants are encouraged to meet their match requirements through cash contributions. Therefore, a project requesting $100,000 in Federal funds must provide a match of at least $33,333 (the total project cost is $133,333 of which $33,333 is 25%).

Applications that fail to include the required amount of cost-share will be considered non-responsive and returned without review.

3. Other (if applicable)

On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applicants are cautioned that the ceiling for individual awards is $100,000. Applications exceeding the $100,000 threshold will be considered non-responsive and will not be eligible for funding under this announcement.

Applications that fail to include the required amount of cost-share will be considered non-responsive and returned without review.

IV. Application and Submission Information

1. Address To Request an Application Package

Valerie Reese, Program Specialist, U.S. Department of Health and Human Services, Administration for Children and Families, Administration on Developmental Disabilities, 370 L'Enfant Promenade, SW., Washington, DC 20447. E-mail: vreese@acf.hhs.gov; phone: (202) 690-5805, TTY/TDD: (202) 690-6415, fax: (202) 205-8037.

2. Content and Form of Application Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.Gov:

• Electronic submission is voluntary.

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this Program Announcement and meet the application deadline.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Electronic Address where applications will be accepted: http://www.Grants.gov.

• Project Description: The Project Description is a very important part of an application. It should be clear, concise, and address the specific requirements mentioned under the Priority Area. The narrative should also provide information concerning how the application meets the evaluation criteria, using the following headings:

(a) Objectives and Need for Assistance

(b) Results and Benefits Expected

(c) Approach

(d) Organization Profile; and

(e) Budget and Budget Justification

• Application Package: Each application package must include an original and two copies of the complete application. Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

The narrative should be typed double-spaced on a single-side of an 8½″ × 11″ plain white paper, with 1″ margins on all sides, using black print no smaller than 12 pitch or 12 point size. All pages of the narrative, including attachments (such as charts, references/footnotes, tables, maps, exhibits, etc.) and letters of support must be sequentially numbered, beginning with “Objectives and Need for Assistance” as page number one. Applicants should not submit reproductions of larger size paper, reduced to meet the size requirement.

The length of the application, including all attachments and required Federal forms, must not exceed 60 pages. The federally required forms will be count towards the total number of pages. The 60-page limit will be strictly enforced. All pages beyond the first 60 pages of text will be removed prior to applications being evaluated by the reviewers. A page is a single side of an 8½ × 11″ sheet of paper with 1″ margins.

Applicants are requested not to send pamphlets, brochures or other printed material along with their application as these pose copying difficulties. These materials, if submitted, will not be included in the review process if they exceed the 60-page limit. Each page of the application will be counted to determine the total length.

• Assurances/Certifications: Applicants are required to submit a SF 424B, Assurances— Non-Construction Programs and the Certification Regarding Lobbying. Applicants must provide a certification concerning lobbying. Prior to receiving an award in excess of $100,000, applicants should furnish an executed copy of the lobbying certification (approved by the Office of Management and Budget under control number 0348-0046). Applicants must sign and return the certification with their application.

Applicant must also understand that they will be held accountable for the smoking prohibition included within Pub. L. 103-227, Part C Environmental Tobacco Smoke (also known as the Pro-Children's Act of 1994). By signing and submitting the application, applicants are providing the certification and need not mail back the certification with the application.

In addition, applicants are required under section 162(c)(3) of the Act to provide assurances that the human rights of all individuals with developmental disabilities (especially those individuals without familial protection) who will receive services under projects assisted under Part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

Non-profit applicants must demonstrate proof of their non-profit status and this proof must be included in their application. Proof of non-profit status is any one of the following:

a. A reference to the applicant organization's listing in the Internal Revenue Service's (IRS) most recent list of tax-exempt organizations described in the IRS code;

b. A copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

3. Submission Dates and Times

If you intend to submit an application, please send us a fax or e-mail with the number and title of this Program Announcement, your organization's name and address, your contact person's name, your contact's phone and fax numbers, and their e-mail address. While Letters of Intent are not a requirement for funding consideration, this information will be used to determine the number of experts needed to review applications and to update the mailing list for future Program Announcements from ADD.

Letters of Intent are due July 2, 2004, at the following address: U.S. Department of Health and Human Services, Administration for Children and Families, Administration on Developmental Disabilities, 370 L'Enfant Promenade, SW., Washington, DC 20447. Attention: April Myers. Phone: (202) 690-5985, TTY/TDD: (202) 690-6415, e-mail: amyers@acf.hhs.gov, fax: (202) 205-8037.

The closing time and date for receipt of applications is 4:30 p.m. (eastern time zone) on August 2, 2004. Mailed or hand carried applications received after 4:30 p.m. on the closing date will be classified as late.

Deadline: Mailed applications shall be considered as meeting an announced deadline if they are received on or before the deadline time and date at the following address:U.S. Department of Health and Human Services, Administration for Children and Families, Office of Grants Management, 370 L'Enfant Promenade, SW., 8th Floor, Washington, DC 20447. Attention: Lois Hodge.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., e.s.t., at the following address: U.S. Department of Health and Human Services, Administration for Children and Families, Office of Grants Management, 370 L'Enfant Promenade, SW., 8th Floor, Washington, DC 20447. Attention: Lois Hodge.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
Notice of Intent to Submit | Applicant's name and contact | Fax (202) 205-8037 or e-mail (amyers@acf.hhs.gov) | July 2, 2004.
Governor's letter of designation for Applicants under Priority Areas I and II | Designate the applicant as the lead applicant for the State/Territory by name | Letter with the Governor's signature, addressed to Commissioner Patricia A. Morrissey, Ph.D | August 2, 2004.
SF424, SF424a, SF424B | Per required form | May be found at http://www.acf.hhs.gov/program/ofs/forms.htm | August 2, 2004.
Project Summary/Abstract | Summary of application request | One page limit | August 2, 2004.
Project Description | Responsiveness to evaluation criteria | Format described in Review and Selection section. Limit 60 pages. Size 12 font, ½″ margins | August 2, 2004.
Certification Regarding Lobbying | Per required form | May be found at http://www.acf.hhs.gov/program/ofs/forms.htm | August 2, 2004.
Disclosure of Lobbying Activities (SF-LLL) | Per required form | May be found at http://www.acf.hhs.gov/program/ofs/forms.htm | August 2, 2004.
Environmental Tobacco Smoke Certification | Per required form | May be found at http://www.acf.hhs.gov/program/ofs/forms.htm | August 2, 2004.

Additional Forms: Private-non-profit organizations are encouraged to submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC), Notification under Executive Order 12372

This program is covered under Executive Order (E.O.) 12372, “Intergovernmental Review of Federal Programs”, and 45 CFR part 100, “Intergovernmental Review of Department of Health and Human Services Programs and Activities”. Under the Order, States may design their own processes for reviewing and commenting on proposed Federal assistance under covered programs

As of January 2003, of the most recent SPOC list, the following jurisdictions have elected not to participate in the Executive Order process: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington. Applicants from these jurisdictions or for projects administered by federally-recognized Indian Tribes need take no action in regard to E.O. 12372.

Although the jurisdictions listed above no longer participate in the process, entities which have met the eligibility requirements of the program are still eligible to apply for a grant even if a State, Territory, Commonwealth, etc. does not have a SPOC.

All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, SW., Mail Stop 6C-462, Washington, DC 20447.

The official list, including addresses, of the jurisdictions elected to participate in E.O. 12372 can be found at: http://www.whitehouse.gov/omb/grants/spoc.html.

5. Funding Restrictions

Non-Allowable Costs: Reimbursement of pre-award costs, costs for foreign travel, or costs for construction activities are not allowable charges to this Federal grant program.

Indirect Costs: In order to charge Indirect Costs to the Federal Funds and/or use Indirect Costs as a matching share, the applicant must have an approved indirect costs agreement for the period in which the Federal funds would be awarded.

6. Other Submission Requirements

Submission by Mail: An Applicant must provide an original application with all attachments, signed by an authorized representative and two copies. ACF will not be sending applicants notifications that their applications were received under this Program Announcement. The Application must be received at the address below by 4:30 p.m. eastern standard time on or before the closing date. Applications should be mailed to: The U.S. Department of Health and Human Services, ACF Office of Grants Management, 370 L'Enfant Promenade, SW., 8th Floor, Washington, DC 20447. Attention: Lois Hodge.

Hand Delivery: An Applicant must provide an original application with all attachments signed by an authorized representative and two copies. The application must be received at the address below by 4:30 p.m. eastern standard time on or before the closing date. Applications that are hand delivered will be accepted between the hours of 8 a.m. to 4:30 p.m., Monday through Friday. Applications may be delivered to: The U.S. Department of Health and Human Services, ACF Office of Grants Management, 370 L'Enfant Promenade, SW., 8th Floor, Washington, DC 20447. Attention: Lois Hodge.

Electronic Submission: Please see section IV. 2 Content and Form of Application Submission, for guidelines and requirements when submitting applications electronically.

V. Application Review Information

1. Evaluation Criteria

Please see Generic and Specific Evaluation criteria for Priority Area #1, V.1, “Application Review Information, Evaluation Criteria” for crafting your response for the Project Narrative.

2. Review and Selection Process

Please see Priority Area #1, V.2, “Application Review Information, Review and Selection Process”, for information on the review and selection process for this priority area.

Priority Area III: Youth Information, Training, and Resource Centers Planning Grants

I. Priority Area III. Description

Priority Area III Background Information

Purpose: To design and demonstrate community-based information, training, and resource centers with youth and emerging leaders, as defined above for this Program Announcement.

Young people with disabilities are more than twice as likely to drop out of high school (during 1998 to 1999, 29% of youths with developmental disabilities 14 and older dropped out of school) and are less likely to graduate high school with a standard diploma than youth without disabilities (during 1998 to 1999, 57.4% of students with disabilities graduated with a standard diploma compared to approximately 75% of their non-disabled counterparts). Additionally, young people with disabilities are less likely to be engaging in work activity (50% of the individuals with developmental disabilities age 18-29 who can work do work, compared to 72% of their non-disabled counterparts). Through the design and demonstration of youth information, resource, and training centers under Priority Area III, ADD envisions improving the odds for youth with developmental disabilities to graduate with a standard high school diploma and encouraging emerging leaders with developmental disabilities to seek and maintain employment.

For purposes of this Program Announcement, the term “youth” is defined as individuals with developmental disabilities between the ages of 13 and 17 while “emerging leaders” refers to individuals with developmental disabilities between the ages of 18 and 30 with the desire and interest to engage in community leadership and policymaking activities.

Note to Applicants: If multiple years of funding are being requested for the proposed project, the application must identify project objectives for each year.

Priority Area III Minimum Requirements for Project Design

• Consumer Involvement and Input. All proposed projects must have an advisory committee that primarily (greater than 51%) consists of youth and emerging leaders and allows youth and emerging leaders to make decisions on how the grant funding will be spent on activities and outcomes of the project.

• Three Areas of Emphasis. Activities and outcomes of the center should be related to at least three of the eight areas of emphasis in the DD Act (employment, education, housing, recreation, health, child care, transportation, and quality assurance).

• Training. A strong self-advocacy and leadership training component shall be an essential part of the projects, especially for emerging young leaders (such as an emerging leaders partners in policy making curriculum which can be replicated in other States).

• Information and Referrals. Proposed projects must include a structure for information and referrals for youth and emerging leaders that parents of youth and emerging leaders, as well as youth related service providers, may also access.

• Internet Access. Applicants should demonstrate their capacity to develop youth friendly web-based materials and promote safe use of the internet by youth and emerging leaders.

• Materials for Dissemination. The development and dissemination of youth friendly materials on career paths, money management, and healthy lifestyles choices in accessible formats and in languages other than English should be a central theme of the project design.

• Unserved and Underserved. Projects shall focus on unserved and underserved youth and emerging leaders in the targeted communities; and the project participation and advisory committee shall reflect the diversity of the targeted communities;

• Collaboration. Collaboration with self-advocacy groups, centers for independent living, parent information and training centers, as well as other organizations, groups, agencies, and foundations interested in youth development, including faith-based and community organizations should play a central role in planning and operating the center.

• Employment Opportunities. Projects shall offer opportunities for youth and emerging leaders to be employed by the project.

• Capacity Building. Activities of the center should include building the capacity of other youth groups and organizations to include and support youth and emerging leaders, as defined by this Program Announcement, in their on-going programs and regular activities.

• Community Inclusion. Activities should include identifying and promoting opportunities for youth and emerging leaders to participate in community events and activities to develop their civic skills and community awareness.

• Mentoring. Projects must provide mentoring opportunities, particularly for emerging leaders, to prepare them for careers, community involvement, independent living, and leadership roles.

• Civil Rights. Compliance with the Americans with Disabilities Act, where applicable, and section 504 of the Rehabilitation Act of 1973 as amended by the Rehabilitation Act Amendments of 1998.

• Demonstrating Services. The application must also include an implementation plan for demonstrating the services of the youth center. At a minimum, the following information should be addressed in the applicant's implementation plan:

(1) A criteria and process for selecting the targeted youth, emerging leaders, and community to be served by the center;

(2) A criteria for establishing and measuring the outcomes of the center;

(3) A description of operations and procedures relating to the following:

a. Outreach to and recruitment of youth and emerging leaders;

b. Information and referral systems for youth and emerging leaders, parents, and community organizations with an interest in positive youth development (including faith-based organizations);

c. Training and mentoring plans for at least ten emerging leaders annually; and

d. Ensuring the confidentiality of personal information while protecting the safety of at-risk youth and emerging leaders;

(4) Staffing patterns and staff requirements;

(5) Organizational chart for the center;

(6) Space and equipment requirements;

(7) Timetable for implementing this plan for the center; and

(8) Budget requirements for the center. And

• Project Meeting: Each applicant's proposed project budget must include estimated travel expenses (airfare, ground transportations, lodging, etc.) for at least one key project staff member and an emerging leader to attend a three day meeting in Washington, DC with Federal staff on project issues and/or for training and technical assistance.

II. Priority Area III Award Information

Funding Instrument Type: Competitive Grant Initial.

Anticipated Total Priority Area Funding: $1,000,000.

Anticipated Number of Awards: 8 to 10 Grant Awards per budget period.

Ceiling on Amount of Individual Annual Awards: $100,000 per budget period.

Floor of Individual Award Amounts: None.

Average Projected Award Amount: $100,000 per budget period.

Length of Project: This priority area is inviting applications for project periods up to three years. Awards, however, will be made on a competitive basis, for a one-year budget period. Applications for continuation grants funded under these awards beyond the one-year budget period but within the three year project period will be entertained in subsequent years on a noncompetitive basis, subject to availability of funds, satisfactory progress of the grantee and a determination that continued funding would be in the best interest of the government.

III. Priority Area III Eligibility Information

1. Eligible Applicants

State Governments, County Governments, City or Township Governments, State Controlled Institutions of Higher Education, Native American Tribal Governments (Federally Recognized), Public Housing Authorities/Indian Housing Authorities, non-profits having 501(c)(3) status with the IRS, other than institutions of higher education, non-profits that do not have 501(c)(3) status with the IRS, other than institutions of higher education, and private institutions of higher learning.

Additional Information on Eligibility:

• Eligible applicants must have a demonstrated record of working in partnership with youth, emerging leaders, community leaders, and others to empower youth and emerging leaders with developmental disabilities to make informed life choices.

• Non-profit organizations must demonstrate proof of non-profit status. Proof of non-profit status is any one of the following:

a. A reference to the applicant organization's listing in the Internal Revenue Service's (IRS) most recent list of tax-exempt organizations described in the IRS code;

b. Copy of a currently valid IRS tax exemption certificate

c. A statement from a State taxing body, State Attorney General, or other appropriate State official certifying that the applicant organization has a non-profit status and that none of the net earnings accrue to any private shareholders or individuals

d. A certified copy of the organization's certificate of incorporation or similar document that clearly establishes non-profit status; or

e. Any of the items in the subparagraphs immediately above for a State or national parent and a statement signed by the parent organization that the applicant organization is a local non-profit affiliate.

Applicants are cautioned that the ceiling for individual awards is $100,000. An application exceeding the $100,000 threshold will be considered non-responsive and returned without review.

2. Cost Sharing or Matching

Grantees must match $1 for every $3 requested in Federal funding to reach 25 percent of the total approved cost of the project. The total approved cost of the project is the sum of the ACF/ADD share and the non-Federal share. The non-Federal share may be met by cash or in-kind contributions, although applicants are encouraged to meet their match requirements through cash contributions. Therefore, a project requesting $100,000 in Federal funds must provide a match of at least $33,333 (the total project cost is $133,333 of which $33,333 is 25%).

Applications that fail to include the required amount of cost-share will be considered non-responsive and returned without review.

3. Other (If Applicable)

On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applicants are cautioned that the ceiling for individual awards is $100,000. Applications exceeding the $100,000 threshold will be considered non-responsive and will not be eligible for funding under this announcement.

Applications that fail to include the required amount of cost-share will be considered non-responsive and returned without review.

IV. Application and Submission Information

1. Address To Request an Application Package

Valerie Reese, Program Specialist, U.S. Department of Health and Human Services, Administration for Children and Families, Administration on Developmental Disabilities, 370 L'Enfant Promenade, SW., Washington, DC 20447. E-mail: vreese@acf.hhs.gov, phone: (202) 690-5805, TTY/TDD: (202) 690-6415, fax: (202) 205-8037.

2. Content and Form of Application Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.Gov:

• Electronic submission is voluntary.

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this Program Announcement and meet the application deadline.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Electronic Address where applications will be accepted: http://www.Grants.gov.

• Project Description: The Project Description is a very important part of an application. It should be clear, concise, and address the specific requirements mentioned under the Priority Area. The narrative should also provide information concerning how the application meets the evaluation criteria, using the following headings:

(a) Objectives and Need for Assistance

(b) Results and Benefits Expected

(c) Approach

(d) Organization Profile; and

(e) Budget and Budget Justification

• Application Package: Each eligible entity may only submit one application for consideration under this Priority Area.

Each application package must include an original and two copies of the complete application. Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

The narrative should be typed double-spaced on a single-side of an 8½″ × 11″ plain white paper, with 1″ margins on all sides, using black print no smaller than 12 pitch or 12 point size. All pages of the narrative, including attachments (such as charts, references/footnotes, tables, maps, exhibits, etc.) and letters of support must be sequentially numbered, beginning with “Objectives and Need for Assistance” as page number one. Applicants should not submit reproductions of larger size paper, reduced to meet the size requirement.

The length of the application, including all attachments and required Federal forms, must not exceed 60 pages. The federally required forms will be count towards the total number of pages. The 60-page limit will be strictly enforced. All pages beyond the first 60 pages of text will be removed prior to applications being evaluated by the reviewers. A page is a single side of an 8½ × 11″ sheet of paper with 1″ margins.

Applicants are requested not to send pamphlets, brochures or other printed material along with their application as these pose copying difficulties. These materials, if submitted, will not be included in the review process if they exceed the 60-page limit. Each page of the application will be counted to determine the total length.

• Assurances/Certifications: Applicants are required to submit a SF 424B, Assurances— Non-Construction Programs and the Certification Regarding Lobbying. Applicants must provide a certification concerning lobbying. Prior to receiving an award in excess of $100,000, applicants should furnish an executed copy of the lobbying certification (approved by the Office of Management and Budget under control number 0348-0046). Applicants must sign and return the certification with their application.

Applicant must also understand that they will be held accountable for the smoking prohibition included within Pub. L. 103-227, Part C Environmental Tobacco Smoke (also known as the Pro-Children's Act of 1994). By signing and submitting the application, applicants are providing the certification and need not mail back the certification with the application.

In addition, applicants are required under section 162(c)(3) of the Act to provide assurances that the human rights of all individuals with developmental disabilities (especially those individuals without familial protection) who will receive services under projects assisted under Part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

Non-profit applicants must demonstrate proof of their non-profit status and this proof must be included in their application. Proof of non-profit status is any one of the following:

a. A reference to the applicant organization's listing in the Internal Revenue Service's (IRS) most recent list of tax-exempt organizations described in the IRS code;

b. Copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

3. Submission Dates and Times

If you intend to submit an application, please send us a fax or e-mail with the number and title of this Program Announcement, your organization's name and address, your contact person's name, your contact's phone and fax numbers, and their e-mail address. While Letters of Intent are not a requirement for funding consideration, this information will be used to determine the number of experts needed to review applications and to update the mailing list for future Program Announcements from ADD.

Letters of Intent are due July 2, 2004, at the following address: U.S. Department of Health and Human Services, Administration for Children and Families, Administration on Developmental Disabilities, 370 L'Enfant Promenade, SW., Washington, DC 20447. Attention: April Myers. Phone: (202) 690-5985, TTY/TDD: (202) 690-6415, e-mail: amyers@acf.hhs.gov, fax: (202) 205-8037.

The closing time and date for receipt of applications is 4:30 p.m. (eastern time zone) on August 2, 2004. Mailed or hand carried applications received after 4:30 p.m. on the closing date will be classified as late.

Deadline: Mailed applications shall be considered as meeting an announced deadline if they are received on or before the deadline time and date at the following address: U.S. Department of Health and Human Services, Administration for Children and Families, Office of Grants Management, 370 L'Enfant Promenade, SW., 8th Floor, Washington, DC 20447. Attention: Lois Hodge.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., e.s.t., at the following address: U.S. Department of Health and Human Services, Administration for Children and Families, Office of Grants Management, 370 L'Enfant Promenade, SW., 8th Floor, Washington, DC 20447. Attention: Lois Hodge.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
Notice of Intent to Submit | Applicant's name and contact information | Fax (202) 205-8037 or e-mail (amyers@acf.hhs.gov) | July 2, 2004.
Governor's letter of designation for Applicants under Priority Areas I and II | Designate the applicant as the lead applicant for the State/Territory by name | Letter with the Governor's signature, addressed to Commissioner Patricia A. Morrissey, Ph.D | August 2, 2004.
SF424, SF424a, SF424B | Per required form | May be found at http://www.acf.hhs.gov/program/ofs/forms.htm | August 2, 2004.
Project Summary/Abstract | Summary of application request | One page limit | August 2, 2004.
Project Description | Responsiveness to evaluation criteria | Format described in Review and Selection section. Limit 60 pages. Size 12 font, ½′ margins | August 2, 2004.
Certification Regarding Lobbying | Per required form | May be found at http://www.acf.hhs.gov/program/ofs/forms.htm | August 2, 2004.
Disclosure of Lobbying Activities (SF-LLL) | Per required form | May be found at http://www.acf.hhs.gov/program/ofs/forms.htm | August 2, 2004.
Environmental Tobacco Smoke Certification | Per required form | May be found at http://www.acf.hhs.gov/program/ofs/forms.htm | August 2, 2004.

Additional Forms: Private-non-profit organizations are encouraged to submit with their applications the additional survey located under “Grant Related Documents and Forms” titled “Survey for Private, Non-Profit Grant Applicants”.

What to submit | Required content | Required form or format | When to s/ubmit
Survey for Private, Non-Profit Grant Applicants | Per required form | May be found on http://www.acf.hhs.gov/programs/ofs/form.htm | By application due date.

4. Intergovernmental Review

State Single Point of Contact (SPOC), Notification Under Executive Order 12372

This program is covered under Executive Order (E.O.) 12372, “Intergovernmental Review of Federal Programs”, and 45 CFR part 100, “Intergovernmental Review of Department of Health and Human Services Programs and Activities”. Under the Order, States may design their own processes for reviewing and commenting on proposed Federal assistance under covered programs.

As of January 2003, of the most recent SPOC list, the following jurisdictions have elected not to participate in the Executive Order process: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington. Applicants from these jurisdictions or for projects administered by federally-recognized Indian Tribes need take no action in regard to E.O. 12372.

Although the jurisdictions listed above no longer participate in the process, entities which have met the eligibility requirements of the program are still eligible to apply for a grant even if a State, Territory, Commonwealth, etc. does not have a SPOC.

All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, SW., Mail Stop 6C-462, Washington, DC 20447.

The official list, including addresses, of the jurisdictions elected to participate in E.O. 12372 can be found at: http://www.whitehouse.gov/omb/grants/spoc.html.

5. Funding Restrictions

Non-Allowable Costs: Reimbursement of pre-award costs, costs for foreign travel, or costs for construction activities are not allowable charges to this Federal grant program.

Indirect Costs: In order to charge Indirect Costs to the Federal Funds and/or use Indirect Costs as a matching share, the applicant must have an approved indirect costs agreement for the period in which the Federal funds would be awarded.

6. Other Submission Requirements

Submission by Mail: An Applicant must provide an original application with all attachments, signed by an authorized representative and two copies. ACF will not be sending applicants notifications that their applications were received under this Program Announcement. The Application must be received at the address below by 4:30 p.m. eastern standard time on or before the closing date. Applications should be mailed to: The U.S. Department of Health and Human Services, ACF Office of Grants Management, 370 L'Enfant Promenade, SW., 8th Floor, Washington, DC 20447. Attention: Lois Hodge.

Hand Delivery: An Applicant must provide an original application with all attachments signed by an authorized representative and two copies. The application must be received at the address below by 4:30 p.m. eastern standard time on or before the closing date. Applications that are hand delivered will be accepted between the hours of 8 a.m. to 4:30 p.m., Monday through Friday. Applications may be delivered to: The U.S. Department of Health and Human Services, ACF Office of Grants Management, 370 L'Enfant Promenade, SW., 8th Floor, Washington, DC 20447. Attention: Lois Hodge.

Electronic Submission: Please see section IV. 2 Content and Form of Application Submission, for guidelines and requirements when submitting applications electronically.

V. Application Review Information

1. Evaluation Criteria

Please see Generic and Specific Evaluation criteria for Priority Area #1, V.1, “Application Review Information, Evaluation Criteria” for crafting your response for the Project Narrative.

2. Review and Selection Process

Please see Priority Area #1, V.2, “Application Review Information, Review and Selection Process,” for information on the review and selection process for this priority area.

Please note that the Award and Contact information and requirements below are applicable to all three Priority Areas in this Program Announcement.

VI. Award Administration Information

1. Award Notices

Anticipated Announcement and Award Dates: Subject to the availability of funding, ADD intends to award new grants resulting from this Program Announcement during the fourth quarter of Fiscal Year 2004. For the purpose of the awards under this Program Announcement, the successful applicants should expect a project start date of September 30, 2004.

Award Notices: Successful and unsuccessful applicants will be notified of the results of this grant competition within 90 days of the application deadline. Successful applicants will receive by U.S. postal mail a letter signed by the Commissioner of the Administration on Developmental Disabilities (ADD) with an official notice of award (the Financial Assistance Award) signed by the grants management officer.

Administrative and National Policy Requirements:

45 CFR part 74,

45 CFR part 92.

Special Terms and Condition of Award: None.

Special Reporting Requirements: Programmatic Reports and Financial Reports are required semi-annually. All required reports must be submitted in a timely manner, in recommended formats (to be provided), and the final report must also be submitted on disk or electronically using a standard word-processing program.

VII. Agency Contacts

Program Office Contact: April Myers, Program Specialist, 370 L'Enfant Promenade, SW., Washington, DC 20447. Phone: (202) 690-5985, TTY/TDD: (202) 690-6415, e-mail: amyers@acf.hhs.gov, fax: (202) 205-8037.

Grants Management Office Contact: Lois Hodge, Grants Officer, 370 L'Enfant Promenade, SW., Washington, DC 20447, (202) 401-2344, e-mail: lhodge@acf.hhs.gov.

VIII. Other Information

http://www.acf.hhs.gov/programs/add/.

Dated: June 7, 2004.
Patricia A. Morrissey,
Commissioner, Administration on Developmental Disabilities.

[FR Doc. 04-13509 Filed 6-16-04; 8:45 am]

BILLING CODE 4184-01-P